ENVIRONMENTAL PROTECTION AGENCY

[FRL-9494-4; Docket ID No. EPA-HQ-ORD-2011-0914]

BASINS and WEPP Climate Assessment Tools: Case Study Guide to Potential Applications

AGENCY: Environmental Protection Agency (EPA).

ACTION: Notice of public comment period and letter peer-review.

SUMMARY: EPA is announcing a 30-day public comment period for the draft document titled, BASINS and WEPP Climate Assessment Tools (CAT): Case Study Guide to Potential Applications (EPA/600/R-11/123A). EPA also is announcing that an EPA contractor for external scientific peer review will select an independent group of experts to conduct a letter peer-review of the draft document. The document was prepared by the National Center for Environmental Assessment within EPA's Office of Research and Development, and is intended to support application of two recently developed water modeling tools, the BASINS and WEPP climate assessment tools. The report presents a series of short case studies designed to illustrate the capabilities of these tools for conducting scenario based assessments of the potential future effects of climate, land use, and management change on water resources.

EPA intends to forward the public comments that are submitted in accordance with this notice to the external peer-reviewers for their consideration during the letter review. When finalizing the draft document, EPA intends to consider any public comments received in accordance with this notice. EPA is releasing this draft assessment for the purposes of public comment and peer review. This draft assessment is not final as described in EPA's information quality guidelines, and it does not represent and should not be construed to represent Agency policy or views.

The draft document is available via the Internet on the NCEA home page under the Recent Additions and the Data and Publications menus at http://www.epa.gov/ncea.

DATES: The 30-day public comment period begins November 17, 2011, and ends December 19, 2011. Technical comments should be in writing and must be received by EPA by December 19, 2011.

ADDRESSES: The draft document, BASINS and WEPP Climate Assessment Tools: Case Study Guide to Potential Applications, is available primarily via the Internet on the National Center for Environmental Assessment's home page under the Recent Additions and the Data and Publications menus at http://www.epa.gov/ncea. A limited number of paper copies are available from the Information Management Team, NCEA; telephone: (703) 347-8561; facsimile: (703) 347-8691. If you are requesting a paper copy, please provide your name, mailing address, and the document title.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: (202) 566-1752; facsimile: (202) 566-1753; or email: ORD.Docket@epa.gov.

For technical information, contact Thomas Johnson, NCEA; telephone: (703) 347-8618; facsimile: (703) 347-8694; or email: johnson.thomas@epa.gov.

SUPPLEMENTARY INFORMATION:

I. Information About the Project/Document

There is growing concern about the potential effects of climate change on water resources. U.S. EPA and partners have developed two assessment tools, the BASINS Climate Assessment Tool (BASINS CAT) and the Water Erosion Prediction Project Climate Assessment Tool (WEPPCAT), that facilitate application of existing simulation models for conducting scenario-based assessments of potential climate change impacts on water.

This report presents a series of short case studies using the BASINS and WEPP climate assessment tools. The case studies are designed to illustrate the capabilities of these tools for conducting assessments of the potential future effects of climate, land use, and management change on water resources. Climate change scenarios are created based on model projections as well as historical data and past events. Land use change and management scenarios are also included to address questions related to the relative effects of land use versus climate change, and the effectiveness of management practices for reducing impacts.

This report is technical in nature. It is of interest to modeling professionals including water and watershed managers, urban or regional planners, government officials, and scientists and engineers interested in using the BASINS or WEPP water models to assess the potential implications of climate change on water resources.

II. How To Submit Technical Comments to the Docket at www.regulations.gov

Submit your comments, identified by Docket ID No. EPA-HQ-ORD 2011-0914, by one of the following methods:

• www.regulations.gov: Follow the on-line instructions for submitting comments;

• Email: ORD.Docket@epa.gov;

• Fax: (202)-566-9744;

• Mail: Office of Environmental Information (OEI) Docket (Mail Code: 28221T), U.S. Environmental Protection Agency, 1200 Pennsylvania Avenue, NW., Washington, DC 20460. The phone number is (202) 566-1752. If you provide comments by mail, please submit one unbound original with pages numbered consecutively and three copies of the comments. For attachments, provide an index, number pages consecutively with the comments, and submit an unbound original and three copies; or

• Hand Delivery: The OEI Docket is located in the EPA Headquarters Docket Center, EPA West Building, Room 3334, 1301 Constitution Avenue, NW., Washington, DC. The EPA Docket Center's Public Reading Room is open from 8:30 a.m. to 4:30 p.m., Monday through Friday, excluding legal holidays. The telephone number for the Public Reading Room is (202)-566-1744. Deliveries are only accepted during the docket's normal hours of operation, and special arrangements should be made for deliveries of boxed information. If you provide comments by hand delivery, please submit one unbound original with pages numbered consecutively and three copies of the comments. For attachments, provide an index, number pages consecutively with the comments, and submit an unbound original and three copies.

Instructions: Direct your comments to Docket ID No. EPA-HQ-ORD-2011-0914. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically at http://www.regulations.gov or in hard copy at the OEI Docket in the EPA Headquarters Docket Center.

Dated: November 10, 2011.
Darrell A. Winner,
Acting Director, National Center for Environmental Assessment.

[FR Doc. 2011-29749 Filed 11-16-11; 8:45 am]

BILLING CODE 6560-50-P